DEPARTMENT OF TRANSPORTATION

Surface Transportation Board

[STB Finance Docket No. 34660]¹

Georgia Central Railway, L.P.—Acquisition and Operation Exemption—Rail Line of CSX Transportation, Inc.

Georgia Central Railway, L.P. (Georgia Central), a Class III rail carrier, has filed a verified notice of exemption under 49 CFR 1150.41 to acquire, by purchase from CSX Transportation, Inc. (CSXT), and operate approximately 57.92 miles of rail line between milepost SK 0.08 at Macon, and milepost SK 58.0 at East Dublin, in Bibb, Twiggs, Wilkinson, and Laurens Counties, GA.²

¹ This notice of exemption was previously served and published in the Federal Register on March 3, 2005 (70 FR 10476-77). By letter filed on April 4, 2005, Georgia Central's counsel notified the Board of an error in the milepost designation at Macon and, consequently, the rail miles involved in the transaction. Accordingly, the Board is republishing the notice to reflect the correct milepost and mileage.

² Georgia Central has been, prior to the transaction, leasing the line and underlying right-of-way from CSXT. After the transaction, Georgia Central will own the track and improvements on the line but continue to lease the underlying real property from CSXT. Georgia Central will also continue to be the operator of the line.

Georgia Central indicated that the parties contemplated consummating the transaction on or about February 28, 2005. Georgia Central certified that its projected revenues as a result of this transaction would not result in the creation of a Class II or Class I rail carrier.³

³ Georgia Central also stated that its projected annual revenues following the transaction will exceed $5 million, but it requested waiver of the 60-day advance labor notice requirement at 49 CFR 1150.42(e). That request was granted by Board decision served on February 28, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34660, must be filed with the Surface Transportation Board, 1925 K Street, NW., Washington, DC 20423-0001. In addition, one copy of each pleading must be served on Andrew B. Kolesar III, 1224 17th Street, NW., Washington, DC 20036.

Board decisions and notices are available on our Web site at http://WWW.STB.DOT.GOV.

Decided: April 5, 2005.
By the Board, David M. Konschnik, Director, Office of Proceedings.
Vernon A. Williams,
Secretary.

[FR Doc. 05-7184 Filed 4-11-05; 8:45 am]

BILLING CODE 4915-01-P